DEPARTMENT OF THE INTERIOR

Bureau of Land Management

[LLIDT000000.L11200000.DD0000.241A.00; 4500069133]

Notice of Public Meetings, Twin Falls District Resource Advisory Council, Idaho

AGENCY: Bureau of Land Management, Interior.

ACTION: Notice of public meeting.

SUMMARY: In accordance with the Federal Land Policy and Management Act (FLPMA), the Federal Advisory Committee Act of 1972 (FACA), the U.S. Department of the Interior, Bureau of Land Management (BLM) Twin Falls District Resource Advisory Council (RAC) will meet as indicated below.

DATES: The Twin Falls District RAC will participate in a field tour of the Raft River Geothermal project and the Burley Sage-Grouse Landscape Habitat Restoration project. The tour will take place June 18, 2015. RAC members will meet at the Burley BLM Field Office, 15 East 200 South, Burley, Idaho 83318 for a short meeting prior to departing for the Malta area. The public comment period will take place from 9:10 a.m. to 9:40 a.m.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. The purpose of the June 18th field tour is to learn about the proposed geothermal development in the Raft River valley and to view the success of the Burley Landscape Sage-Grouse Habitat Restoration project. Additional topics may be added and will be included in local media announcements.

More information is available at www.blm.gov/id/st/en/res/resource_advisory.3.html. RAC meetings are open to the public.

Authority: 43 CFR 1784.4-1.

Michael C. Courtney,
BLM Twin Falls District Manager.

[FR Doc. 2015-12649 Filed 5-22-15; 8:45 am]

BILLING CODE 4310-GG-P